DEPARTMENT OF TRANSPORTATION

Federal Aviation Administration

14 CFR Part 39

[Docket No. FAA-2017-0417; Directorate Identifier 2017-CE-008-AD; Amendment 39-18975; AD 2017-15-15]

RIN 2120-AA64

Airworthiness Directives; SOCATA Airplanes

AGENCY: Federal Aviation Administration (FAA), Department of Transportation (DOT).

ACTION: Final rule.

SUMMARY: We are superseding Airworthiness Directive (AD) 2002-19-01 for SOCATA Model TBM 700 airplanes. This AD results from mandatory continuing airworthiness information (MCAI) issued by an aviation authority of another country to identify and correct an unsafe condition on an aviation product. The MCAI describes the unsafe condition as the flight control wheel traveling beyond normal roll control limits and jamming in a position that could cause loss of control. We are issuing this AD to require actions to address the unsafe condition on these products.

DATES: This AD is effective September 6, 2017.

The Director of the Federal Register approved the incorporation by reference of certain publications listed in the AD as of September 6, 2017.

The Director of the Federal Register approved the incorporation by reference of a certain other publication listed in this AD as of October 29, 2002 (67 FR 59137; September 20, 2002).

ADDRESSES: You may examine the AD docket on the Internet at http://www.regulations.gov by searching for and locating Docket No. FAA-2017-0417; or in person at the Docket Management Facility, U.S. Department of Transportation, Docket Operations, M-30, West Building Ground Floor, Room W12-140, 1200 New Jersey Avenue SE., Washington, DC 20590.

For service information identified in this AD, contact SOCATA, Direction des services, 65921 Tarbes Cedex 9, France; phone: +33 (0) 5 62 41 73 00; fax: +33 (0) 5 62 41 76 54; email: info@socata.daher.com; Internet: https://www.mysocata.com/login/accueil.php. You may view this referenced service information at the FAA, Small Airplane Directorate, 901 Locust, Kansas City, Missouri 64106. For information on the availability of this material at the FAA, call (816) 329-4148. It is also available on the Internet at http://www.regulations.gov by searching for Docket No. FAA-2017-0417.

FOR FURTHER INFORMATION CONTACT: Albert Mercado, Aerospace Engineer, 901 Locust, Room 301, Kansas City, Missouri 64106; telephone: (816) 329-4119; fax: (816) 329-4090; email: albert.mercado@faa.gov.

SUPPLEMENTARY INFORMATION:

Discussion

We issued a notice of proposed rulemaking (NPRM) to amend 14 CFR part 39 by adding an AD that would apply to SOCATA Model TBM 700 airplanes. That NPRM was published in the Federal Register on May 8, 2017 (82 FR 21328), and proposed to supersede AD 2002-19-01, Amendment 39-12881 (67 FR 59137; September 20, 2002) (“AD 2002-19-01”).

The NPRM proposed to correct an unsafe condition for the specified products and was based on mandatory continuing airworthiness information (MCAI) originated by an aviation authority of another country. The MCAI states that:

An event occurred in 2001 on an in-service aeroplane where, during a pre-flight check of the flight controls, the pilot control wheel jammed in full nose up and full left position after having exceeded the control stop of roll.

This condition, if not corrected, could lead to reduced control of the aeroplane.

Prompted by these findings, SOCATA issued Service Bulletin (SB) 70-095-27 to provide inspection instructions.

To address this unsafe condition, DGAC France issued AD 2001-582(A) to require repetitive inspections of the flight control system after any maintenance operation on flight controls. That AD was later revised to update the list of affected aeroplane MSN.

Since DGAC France AD 2001-582(A) R1 was issued, SOCATA issued Revision 2 of SB 70-095-27 to provide instructions for replacement of the rivets in the roll primary stops as a terminating action for the repetitive inspections.

For the reasons described above, this [EASA] AD, which supersedes DGAC France AD 2001-582(A) R1, requires replacement of the rivets in the roll primary stops of the flight control wheels at the next maintenance operation on flight controls.

The MCAI can be found in the AD docket on the Internet at: https://www.regulations.gov/document?D=FAA-2017-0417-0002.

Comments

We gave the public the opportunity to participate in developing this AD. We received no comments on the NPRM or on the determination of the cost to the public.

Conclusion

We reviewed the relevant data and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR 51

We reviewed DAHER SOCATA Mandatory Service Bulletin SB 70-095, Revision 2, dated October 2016, which describes procedures for replacement of the flight control wheel primary stop rivets. We also reviewed EADS SOCATA Recommended Service Bulletin SB 70-114, dated December 2004, which describes procedures for installation of roll control emergency stops on the flight control wheel. This service information is reasonably available because the interested parties have access to it through their normal course of business or by the means identified in the ADDRESSES section of the AD.

Differences Between This AD and the Service Information

DAHER SOCATA Mandatory Service Bulletin SB 70-095, Revision 2, dated October 2016, requires a modification that terminates any repetitive inspections and also gives credit for another modification that may have previously been done. We are retaining the repetitive inspection requirement from AD 2002-19-01 and allowing installation of one of the two different modifications as terminating action for the repetitive inspections.

Costs of Compliance

We estimate that this AD will affect 203 products of U.S. registry.

We estimate that it will take about 1 hour per product to comply with the basic requirements of this AD. The average labor rate is $85 per work-hour. Based on these figures, we estimate the cost of the inspection on U.S. operators to be $17,255, or $85 per product.

In addition, we estimate that any necessary follow-on actions will take about 3 work-hours per product. The average labor rate is $85 per work-hour. Based on these figures, we estimate the cost of this action on U.S. operators to be $255 per product. We have no way of determining the number of products that may need these actions.

For the optional actions to terminate the repetitive inspections, we estimate the following costs. We have no way of determining how many operators may choose to do either of the optional actions. For replacement of the rivets in the roll primary stops, we estimate that it will take about 3.5 work-hours per product to comply with the basic requirements of this AD. The average labor rate is $85 per work-hour. Required parts would cost about $10 per product. Based on these figures, for replacement of the rivets we estimate the cost of this action on U.S. operators to be $307.50 per product.

For the installation of a roll control emergency stop on each control wheel, we estimate that it will take about 19.5 work-hours per product to comply with the basic requirements of this AD. The average labor rate is $85 per work-hour. Required parts would cost about $1,650 per product. Based on these figures, for installation of the roll control emergency stop, we estimate the cost of this action on U.S. operators to be $3,307.50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2017-0417; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12881 (67 FR 59137; September 20, 2002) and adding the following new AD:

2017-15-15 SOCATA: Amendment 39-18975; Docket No. FAA-2017-0417; Directorate Identifier 2017-CE-008-AD.

(a) Effective Date

This airworthiness directive (AD) becomes effective September 6, 2017.

(b) Affected ADs

This AD supersedes AD 2002-19-01, Amendment 39-12881 (67 FR 59137, September 20, 2002) (“AD 2002-19-01”).

(c) Applicability

This AD applies to SOCATA Model TBM 700 airplanes, serial numbers 1 through 184, 186, 187, 189 through 204, 206, and 207, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as the flight control wheel traveling beyond normal roll control limits. We are issuing this AD to prevent the flight control wheel from becoming jammed and leading to reduced or loss of control.

(f) Actions and Compliance

Unless already done, do the actions in paragraphs (f)(1) and (2) of this AD or paragraph (f)(3) of this AD:

(1) Within the next 100 hours time-in-service (TIS) after October 29, 2002 (the effective date retained from AD 2002-19-01) and repetitively thereafter every time the flight control system undergoes maintenance, perform a test of the pilot and right-hand (RH) station control wheels to determine if either control wheel becomes jammed following SOCATA TBM Aircraft Mandatory Service Bulletin (SB) 70-095 27, dated November 2001.

(2) If any jamming is found during any test required by paragraph (f)(1) of this AD, before further flight, adjust the roll control stops on either the pilot control wheel or the RH station control wheel following SOCATA TBM Aircraft Mandatory SB 70-095 27, dated November 2001.

(3) To terminate the repetitive inspections required in paragraph (f)(1) of this AD either of the following actions may be done:

(i) Replace the rivets in the roll primary stops of both control wheels following the Accomplishment Instructions in DAHER SOCATA Mandatory SB 70-095, Revision 2, dated October 2016; or

(ii) Install a roll control emergency stop on each control wheel following the Accomplishment Instructions of EADS SOCATA Recommended SB 70-114, dated December 2004.

(g) Credit for Actions Done Following Previous Service Information

If done before September 6, 2017 (the effective date of this AD), this AD allows credit for replacement of the roll primary stop rivets on an airplane as specified in paragraph (f)(3)(i) of this AD following the Accomplishment Instructions of SOCATA TBM Mandatory SB 70-095, original issue or revision 1.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA AD No.: 2017-0018, dated February 3, 2017. The MCAI can be found in the AD docket on the Internet at: https://www.regulations.gov/document?D=FAA-2017-0417-0002.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 6, 2017 (the effective date of this AD).

(i) DAHER SOCATA Mandatory Service Bulletin SB 70-095, Revision 2, dated October 2016.

(ii) EADS SOCATA Recommended Service Bulletin SB 70-114, dated December 2004.

(4) The following service information was approved for IBR on October 29, 2002 (67 FR 59137, September 20, 2002).

(i) SOCATA TBM Aircraft Mandatory SB 70-095 27, dated November 2001.

(ii) Reserved.

(5) For SOCATA service information identified in this AD, contact SOCATA, Direction des services, 65921 Tarbes Cedex 9, France; phone: +33 (0) 5 62 41 73 00; fax: +33 (0) 5 62 41 76 54; email: info@socata.daher.com; Internet: https://www.mysocata.com/login/accueil.php.

(6) You may view this service information at FAA, Small Airplane Directorate, 901 Locust, Kansas City, Missouri 64106. For information on the availability of this material at the FAA, call 816-329-4148. In addition, you can access this service information on the Internet at http://www.regulations.gov by searching for and locating Docket No. FAA-2017-0417.

(7) You may view this service information that is incorporated by reference at the National Archives and Records Administration (NARA). For information on the availability of this material at NARA, call 202-741-6030, or go to: http://www.archives.gov/federal-register/cfr/ibr-locations.html.

Issued in Kansas City, Missouri, on July 19, 2017.
Melvin Johnson,
Acting Manager, Small Airplane Directorate, Aircraft Certification Service.

[FR Doc. 2017-15556 Filed 8-1-17; 8:45 am]

BILLING CODE 4910-13-P